DEPARTMENT OF COMMERCE

International Trade Administration

[A-570-601]

Tapered Roller Bearings and Parts Thereof, Finished and Unfinished, From the People's Republic of China: Notice of Court Decision Not in Harmony With the Results of Antidumping Duty Administrative Review; Notice of Amended Final Results; Correction

AGENCY: Enforcement and Compliance, International Trade Administration, Department of Commerce.

ACTION: Notice; correction.

SUMMARY: On December 31, 2024, the U.S. Department of Commerce (Commerce) published in the Federal Register the amended final results of the 2018-2019 administrative review of the antidumping duty (AD) order on tapered roller bearings and parts from the People's Republic of China (China). This notice incorrectly stated that for the non-selected companies that do not have a superseding cash deposit rate, Commerce will issue revised cash deposit instructions through U.S. Customs and Border Protection (CBP).

FOR FURTHER INFORMATION CONTACT: Jerry Xiao, AD/CVD Operations, Office II, Enforcement and Compliance, International Trade Administration, U.S. Department of Commerce, 1401 Constitution Avenue NW, Washington, DC 20230; telephone: (202) 482-2273.

SUPPLEMENTARY INFORMATION:

Background

On December 31, 2024, Commerce published in the Federal Register the notice of court decision not in harmony with the final results and amended final results of the 2018-2019 administrative review of the AD order on tapered roller bearings and parts from China.¹ This notice incorrectly stated that “{w}ith respect to all the non-selected companies that do not have a superseding cash deposit rate revised cash deposit instructions will be issued by Commerce to CBP.” We provide the correction below.

¹ See Tapered Roller Bearings and Parts Thereof, Finished and Unfinished, from the People's Republic of China: Notice of Court Decision Not in Harmony with the Results of Antidumping Duty Administrative Review; Notice of Amended Final Results, 89 FR 107106 (December 31, 2024).

Correction

In the Federal Register of December 31, 2024, in FR Doc 2024-31412, at 89 FR 107107, in the first and second columns, correct the text in the section entitled, “Cash Deposit Requirements” by replacing the last sentence in the section with the following sentence: “Because the non-selected companies have also received a superseding cash deposit rate in a subsequent administrative review, we will not issue revised cash deposit instructions to CBP. This notice will not affect the current cash deposit rate with respect to these companies.”

Notification to Interested Parties

This notice is issued and published in accordance with sections 516A(e) and 777(i)(1) of the Tariff Act of 1930, as amended.

Dated: January 22, 2025.
Abdelali Elouaradia,
Acting Assistant Secretary for Enforcement and Compliance.

[FR Doc. 2025-01796 Filed 1-27-25; 8:45 am]

BILLING CODE 3510-DS-P